DEPARTMENT OF ENERGY

Federal Energy Regulatory Commission

Combined Notice of Filings #1

Take notice that the Commission received the following exempt wholesale generator filings:

Docket Numbers: EG25-520-000.

Applicants: Baron Winds II LLC.

Description: Baron Winds II LLC submits Notice of Self-Certification of Exempt Wholesale Generator Status.

Filed Date: 9/9/25.

Accession Number: 20250909-5189.

Comment Date: 5 p.m. ET 9/30/25.

Take notice that the Commission received the following electric rate filings:

Docket Numbers: ER18-140-012.

Applicants: Lackawanna Energy Center LLC.

Description: Supplement to 06/30/2023 Triennial Market Power Analysis for Northeast Region of Lackawanna Energy Center LLC.

Filed Date: 9/8/25.

Accession Number: 20250908-5168.

Comment Date: 5 p.m. ET 9/29/25.

Docket Numbers: ER22-2122-001; ER13-1248-003.

Applicants: Patua Project LLC, NGP Blue Mountain I LLC.

Description: Amendment to 06/29/2022, Triennial Market Power Analysis for Northwest Region of NGP Blue Mountain I LLC, et al.

Filed Date: 9/8/25.

Accession Number: 20250908-5160.

Comment Date: 5 p.m. ET 9/29/25.

Docket Numbers: ER25-2898-000.

Applicants: 64NB 8me LLC.

Description: Supplement to 07/18/2025 64NB 8 ME LLC tariff filing.

Filed Date: 9/8/25.

Accession Number: 20250908-5161.

Comment Date: 5 p.m. ET 9/18/25.

Docket Numbers: ER25-3044-001.

Applicants: Midcontinent Independent System Operator, Inc., American Transmission Company LLC.

Description: Tariff Amendment: American Transmission Company LLC submits tariff filing per 35.17(b): 2025-09-10_SA 4540 ATCLLC-MBLP Substitute Original CFA to be effective 9/30/2025.

Filed Date: 9/10/25.

Accession Number: 20250910-5054.

Comment Date: 5 p.m. ET 10/1/25.

Docket Numbers: ER25-3380-001.

Applicants: Louisville Gas and Electric Company.

Description: Tariff Amendment: LGEKU ibv CRA Corrections to be effective 11/7/2025.

Filed Date: 9/10/25.

Accession Number: 20250910-5028.

Comment Date: 5 p.m. ET 10/1/25.

Docket Numbers: ER25-3384-001.

Applicants: Louisville Gas and Electric Company.

Description: Tariff Amendment: LGEKU KYMEA CRA Correction to be effective 11/7/2025.

Filed Date: 9/10/25.

Accession Number: 20250910-5035.

Comment Date: 5 p.m. ET 10/1/25.

Docket Numbers: ER25-3399-000.

Applicants: Baron Winds II LLC.

Description: Initial Rate Filing: FERC Market Based Rate to be effective 9/11/2025.

Filed Date: 9/10/25.

Accession Number: 20250910-5000.

Comment Date: 5 p.m. ET 10/1/25.

Docket Numbers: ER25-3400-000.

Applicants: American Electric Power Service Corporation.

Description: 205(d) Rate Filing: AEPSC submits FAs with Buckeye Power—SA No. 1336 to be effective 11/10/2025.

Filed Date: 9/10/25.

Accession Number: 20250910-5011.

Comment Date: 5 p.m. ET 10/1/25.

Docket Numbers: ER25-3401-000.

Applicants: PJM Interconnection, L.L.C.

Description: Tariff Amendment: Cancellation of ISA No. 5961; Queue No. AE1-226 to be effective 11/10/2025.

Filed Date: 9/10/25.

Accession Number: 20250910-5016.

Comment Date: 5 p.m. ET 10/1/25.

Docket Numbers: ER25-3402-000.

Applicants: Niagara Mohawk Power Corporation, New York Independent System Operator, Inc.

Description: 205(d) Rate Filing: New York Independent System Operator, Inc. submits tariff filing per 35.13(a)(2)(iii: NMPC 205: Generator IA among NMPC and Curtis/Pamer SA2918 to be effective 8/21/2025.

Filed Date: 9/10/25.

Accession Number: 20250910-5038.

Comment Date: 5 p.m. ET 10/1/25.

Docket Numbers: ER25-3403-000.

Applicants: Tri-State Generation and Transmission Association, Inc.

Description: 205(d) Rate Filing: Initial Filing of Rate Schedule FERC No. 426 to be effective 11/10/2025.

Filed Date: 9/10/25.

Accession Number: 20250910-5043.

Comment Date: 5 p.m. ET 10/1/25.

Docket Numbers: ER25-3404-000.

Applicants: Midcontinent Independent System Operator, Inc.

Description: 205(d) Rate Filing: 2025-09-10_SA 4551 NSP-North Star Energy Storage GIA (S1053) to be effective 8/27/2025.

Filed Date: 9/10/25.

Accession Number: 20250910-5049.

Comment Date: 5 p.m. ET 10/1/25.

Docket Numbers: ER25-3405-000.

Applicants: PJM Interconnection, L.L.C.

Description: Tariff Amendment: Notice of Cancellation of GIA SA No. 7391; Project Identifier No. AF2-082 to be effective 11/10/2025.

Filed Date: 9/10/25.

Accession Number: 20250910-5060.

Comment Date: 5 p.m. ET 10/1/25.

Docket Numbers: ER25-3406-000.

Applicants: Southwest Power Pool, Inc.

Description: 205(d) Rate Filing: Tariff Clean-Up Effective 20250810 to be effective 8/10/2025.

Filed Date: 9/10/25.

Accession Number: 20250910-5063.

Comment Date: 5 p.m. ET 10/1/25.

Docket Numbers: ER25-3407-000.

Applicants: Public Service Company of New Hampshire.

Description: 205(d) Rate Filing: Kearsarge Grissom LLC—Engineering, Design and Procurement Agreement to be effective 9/11/2025.

Filed Date: 9/10/25.

Accession Number:20250910-5068.

Comment Date: 5 p.m. ET 10/1/25.

Docket Numbers: ER25-3408-000.

Applicants: PJM Interconnection, L.L.C.

Description: Tariff Amendment: Notice of Cancellation of ISA, SA No. 6675; AE1-225 re: withdrawn to be effective 11/10/2025.

Filed Date: 9/10/25.

Accession Number: 20250910-5074.

Comment Date: 5 p.m. ET 10/1/25.

Take notice that the Commission received the following electric securities filings:

Docket Numbers: ES25-72-000.

Applicants: Baltimore Gas and Electric Company.

Description: Application Under Section 204 of the Federal Power Act for Authorization to Issue Securities of Baltimore Gas and Electric Company.

Filed Date: 9/8/25.

Accession Number: 20250908-5162.

Comment Date: 5 p.m. ET 9/29/25.

Docket Numbers: ES25-73-000.

Applicants: Commonwealth Edison Company.

Description: Application Under Section 204 of the Federal Power Act for Authorization to Issue Securities of Commonwealth Edison Company.

Filed Date: 9/8/25.

Accession Number: 20250908-5163.

Comment Date: 5 p.m. ET 9/29/25.

Docket Numbers: ES25-74-000; ES25-75-000.

Applicants: Potomac Electric Power Company, Delmarva Power & Light Company.

Description: Application Under Section 204 of the Federal Power Act for Authorization to Issue Securities of Delmarva Power & Light Company, et al.

Filed Date: 9/8/25.

Accession Number: 20250908-5164.

Comment Date: 5 p.m. ET 9/29/25.

Docket Numbers: ES25-76-000.

Applicants: PECO Energy Company.

Description: Application Under Section 204 of the Federal Power Act for Authorization to Issue Securities of PECO Energy Company.

Filed Date: 9/8/25.

Accession Number: 20250908-5165.

Comment Date: 5 p.m. ET 9/29/25.

Take notice that the Commission received the following electric reliability filings:

Docket Numbers: RR25-4-001.

Applicants: Western Electricity Coordinating Council, Texas Reliability Entity, Inc., SERC Reliability Corporation, ReliabilityFirst Corporation, Northeast Power Coordinating Council, Inc., Midwest Reliability Organization, North American Electric Reliability Corporation.

Description: Amendment to the Revised Pro Forma Regional Delegation Agreement and Revised Individual Regional Delegation Agreements of North American Electric Reliability Corporation.

Filed Date: 9/8/25.

Accession Number: 20250908-5170.

Comment Date: 5 p.m. ET 9/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: September 10, 2025.
Carlos D. Clay,
Deputy Secretary.

[FR Doc. 2025-17761 Filed 9-12-25; 8:45 am]

BILLING CODE 6717-01-P